OCCUPATIONAL SAFETY AND HEALTH REVIEW COMMISSION

Performance Review Board; Membership: Senior Executive Service

AGENCY: Occupational Safety and Health Review Commission.

ACTION: Notice.

SUMMARY: Notice is hereby given of the names of the members of the Performance Review Board.

FOR FURTHER INFORMATION CONTACT: Ledia Esther Bernal, Director, Office of Financial and Administrative Services, Occupational Safety and Health Review Commission, 1120 20th Street, NW., 9th Floor, NW., Washington, DC 20036, (202) 606-5390.

SUPPLEMENTARY INFORMATION: Section 4313(c)(1) through (5) of title 5 U.S.C. requires each agency to establish in accordance with regulations prescribed by the Office of Personnel Management, one or more Performance Review Board(s).

Members of the Performance Review Board are:

1. Elizabeth M. Thornton, Director, Office of Field Programs, Equal Employment Opportunity Commission.

2. Richard L. Baker, Executive Director, Federal Mine Safety and Health Review Commission.

3. Earl R. Ohman, Jr., General Counsel, Occupational Safety and Health Review Commission.

4. Patricia A. Randle, Executive Director, Occupational Safety and Health Review Commission.

Dated: November 30, 2000.
Thomasina V. Rogers,
Chairman.

[FR Doc. 00-30992 Filed 12-5-00; 8:45 am]

BILLING CODE 7600-01-M